Title 3—

The President

Proclamation 9066 of December 2, 2013

International Day of Persons With Disabilities, 2013

By the President of the United States of America

A Proclamation

Nearly a quarter century has gone by since our Nation passed the Americans with Disabilities Act (ADA), a landmark civil rights bill that enshrined the principles of inclusion, access, and equal opportunity into law. The ADA was born out of a movement sparked by those who understood their disabilities should not be an obstacle to success and took up the mission of tearing down physical and social barriers that stood in their way. On this International Day of Persons with Disabilities, we celebrate the enormous progress made at home and abroad and we strengthen our resolve to realize a world free of prejudice.

Every child deserves a decent education, every adult deserves equal access to the workplace, and every nation that allows injustice to stand denies itself the full talents and contributions of individuals with disabilities. I was proud that under my Administration the United States signed the Convention on the Rights of Persons with Disabilities, an international convention based on the principles of the ADA, and I urge the Senate to provide its advice and consent to ratification. By joining the 138 parties to this convention, the United States would carry forward its legacy of global leadership on disability rights, enhance our ability to bring other countries up to our own high standards of access and inclusion, and expand opportunities for Americans with disabilities—including our 5.5 million disabled veterans—to work, study, and travel abroad.

My Administration remains committed to leading by example. This year, as we celebrated the 40th anniversary of the Rehabilitation Act, we updated rules to improve hiring of veterans and people with disabilities, especially among Federal contractors and subcontractors. Thanks to the Affordable Care Act, insurers can no longer put lifetime dollar limits on essential health benefits for Americans with disabilities. And in January, it will be illegal to deny coverage because of pre-existing conditions.

The changes achieved in the last two decades speak to what people can accomplish when they refuse to accept the world as it is. Today let us once again reach for the world that should be—one where all people, regardless of country or disability, enjoy equal access, equal opportunity, and the freedom to realize their limitless potential.

NOW, THEREFORE, I, BARACK OBAMA, President of the United States of America, by virtue of the authority vested in me by the Constitution and the laws of the United States, do hereby proclaim December 3, 2013, as International Day of Persons with Disabilities. I call on all Americans to observe this day with appropriate ceremonies, activities, and programs.

IN WITNESS WHEREOF, I have hereunto set my hand this second day of December, in the year of our Lord two thousand thirteen, and of the Independence of the United States of America the two hundred and thirty-eighth.

[FR Doc. 2013-29397

Filed 12-5-13; 11:15 am]

Billing code 3295-F4